COMMITTEE FOR PURCHASE FROM PEOPLE WHO ARE BLIND OR SEVERELY DISABLED

Procurement List; Proposed Additions and Deletion

AGENCY: Committee for Purchase From People Who Are Blind or Severely Disabled.

ACTION: Proposed additions to and deletion from the Procurement List.

SUMMARY: The Committee is proposing to add services to the Procurement List that will be provided by nonprofit agencies employing persons who are blind or have other severe disabilities and, deletes a product previously furnished by an agency.

Comments Must be Received on or Before: 11/29/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Furniture Design, Configuration and Installation Service

Service Mandatory for: U.S. Department of the Interior, Stewart Lee Udall, Department of the Interior Building, 1849 C Street and South Interior Building, 1951 Constitution Avenue NW., Washington, DC

Mandatory Source(s) of Supply: Industries for the Blind Inc., West Allis, WI

Contracting Activity: U.S. Department of the Interior, Acquisition Services Directorate, Herndon, VA

Service Type: Call Center Service

Service Mandatory for: OPM, Retirement Service, Retirement Operations, 1137 Branchton Road, Boyers, PA

Mandatory Source(s) of Supply: Orion Career Works, Auburn, WA; Beacon Group SW., Inc., Tucson, AZ

Contracting Activity: Office of Personnel Management, Boyers Region (Non FISD), Boyers, PA

Deletion

The following product is proposed for deletion from the Procurement List:

Product

NSN(s)—Product Name(s): 7125-00-449-6862—Cabinet, Storage.

Mandatory Source(s) of Supply: UNKNOWN

Contracting Activity: Defense Logistics Agency Aviation, Richmond, VA

Barry S. Lineback,
Director, Business Operations.

[FR Doc. 2015-27685 Filed 10-29-15; 8:45 am]

BILLING CODE 6353-01-P